DEPARTMENT OF COMMERCE

International Trade Administration

A-351-837, A-533-828, A-588-068, A-580-852, A-201-831, A-549-820

Prestressed Concrete Steel Wire Strand from Brazil, India, Japan, the Republic of Korea, Mexico, and Thailand: Final Results of the Expedited Sunset Reviews of the Antidumping Duty Finding/Orders

AGENCY: Import Administration, International Trade Administration, Department of Commerce.

SUMMARY: On December 1, 2008, the Department of Commerce initiated sunset reviews of the antidumping duty finding/orders on prestressed concrete steel wire strand from Brazil, India, Japan, the Republic of Korea, Mexico, and Thailand pursuant to section 751(c) of the Tariff Act of 1930, as amended. The Department has conducted expedited (120-day) sunset reviews for these finding/orders in accordance with 19 CFR 351.218(e)(1)(ii)(C)(2). As a result of these sunset reviews, the Department finds that revocation of the antidumping duty finding/orders would be likely to lead to continuation or recurrence of dumping.

EFFECTIVE DATE: March 26, 2009.

FOR FURTHER INFORMATION: Yang Jin Chun or Minoo Hatten, AD/CVD Operations, Office 5, Import Administration, International Trade Administration, U.S. Department of Commerce, 14th Street and Constitution Avenue, NW, Washington, DC 20230; telephone: (202) 482-5760 or (202) 482-1690, respectively.

SUPPLEMENTARY INFORMATION:

Background

On December 1, 2008, the Department of Commerce (the Department) published the notice of initiation of the sunset reviews of the antidumping duty finding¹/orders on prestressed concrete steel wire strand (PC strand) from Brazil, India, Japan, the Republic of Korea (Korea), Mexico, and Thailand pursuant to section 751(c) of the Tariff Act of 1930, as amended (the Act). See Initiation of Five-year (“Sunset”) Reviews, 73 FR 72770 (December 1, 2008) (Notice of Initiation).

¹ On December 8, 1978, the Department of the Treasury published the antidumping duty finding, which is equivalent to an antidumping duty order published after 1980, on PC strand from Japan. See Steel Wire Strand for Prestressed Concrete from Japan: Finding of Dumping, 43 FR 57599 (December 8, 1978).

The Department received notices of intent to participate in these sunset reviews from American Spring Wire Corp., Insteel Wire Products Company, and Sumiden Wire Products Corp. (collectively, the domestic interested parties) within the 15-day period specified in 19 CFR 351.218(d)(1)(i). The domestic interested parties claimed interested-party status under section 771(9)(C) of the Act as producers of a domestic like product in the United States.

The Department received complete substantive responses to the Notice of Initiation from the domestic interested parties within the 30-day period specified in 19 CFR 351.218(d)(3)(i). The Department received no substantive responses from any respondent interested parties. As a result, in accordance with 19 CFR 351.218(e)(1)(ii)(C)(2), the Department is conducting expedited (120-day) sunset reviews of the antidumping duty finding/orders on PC strand from Brazil, India, Japan, Korea, Mexico, and Thailand.

Scope of the Finding/Orders

The product covered in the sunset reviews of the antidumping duty orders on PC strand from Brazil, India, Korea, Mexico, and Thailand is steel strand produced from wire of non-stainless, non-galvanized steel, which is suitable for use in prestressed concrete (both pre-tensioned and post-tensioned) applications. The product definition encompasses covered and uncovered strand and all types, grades, and diameters of PC strand.

The product covered in the sunset review of the antidumping duty finding on PC strand from Japan is steel wire strand, other than alloy steel, not galvanized, which is stress-relieved and suitable for use in prestressed concrete.

The merchandise subject to the finding/orders is currently classifiable under subheadings 7312.10.3010 and 7312.10.3012 of the Harmonized Tariff Schedule of the United States (HTSUS). Although the HTSUS subheadings are provided for convenience and customs purposes, the written description of the merchandise under the finding/orders is dispositive.

Analysis of Comments Received

All issues raised in these reviews are addressed in the “Issues and Decision Memorandum for the Expedited Sunset Reviews of the Antidumping Duty Finding/Orders on Prestressed Concrete Steel Wire Strand from Brazil, India, Japan, the Republic of Korea, Mexico, and Thailand” from Acting Deputy Assistant Secretary John M. Andersen to Acting Assistant Secretary Ronald K. Lorentzen dated March 19, 2009 (Decision Memo), which is hereby adopted by this notice. The issues discussed in the Decision Memo include the likelihood of continuation or recurrence of dumping and the magnitude of the margins likely to prevail if the finding/orders were revoked. Parties can find a complete discussion of all issues raised in these reviews and the corresponding recommendations in this public memorandum which is on file in the Central Records Unit, room 1117 of the main Department of Commerce building.

In addition, a complete version of the Decision Memo can be accessed directly on the Web at http://ia.ita.doc.gov/frn. The paper copy and electronic version of the Decision Memo are identical in content.

Final Results of Reviews

We determine that revocation of the antidumping duty finding/orders on PC strand from Brazil, India, Japan, Mexico, Korea, and Thailand would be likely to lead to continuation or recurrence of dumping at the following weighted-average percentage margins:

Country | Company | Weighted-Average Margin (Percent)
Brazil | Belgo Bekaert Arames S.A. | 118.75
| All Others | 118.75
India | Tata Iron and Steel Co., Ltd. | 102.07
| All Others | 83.65
Japan | Shinko Wire Co., Ltd. | 13.30
| Suzuki Metal Industry Co., Ltd. | 6.90
| Tokyo Rope Manufacturing Co., Ltd. | 4.50
| All Others | 9.76
Korea | Dong-Il Steel Manufacturing Co., Ltd. | 54.19
| Kiswire Ltd. | 54.19
| All Others | 35.64
Mexico | Aceros Camesa S.A. de C.V. | 62.78
| Cablesa S.A. de C.V. | 77.20
| All Others | 62.78
Thailand | Siam Industrial Wire Co., Ltd. | 12.91
| All Others | 12.91

Notification Regarding APO

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing the final results and notice in accordance with sections 751(c), 752(c), and 777(i)(1) of the Act.

Dated: March 19, 2009.
John M. Andersen,
Acting Deputy Assistant Secretary for Antidumping and Countervailing Duty Operations.

[FR Doc. E9-6797 Filed 3-25-09; 8:45 am]

BILLING CODE 3510-DS-S